NUCLEAR REGULATORY COMMISSION

[NRC-2025-0073]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by May 15, 2025. A request for a hearing or petitions for leave to intervene must be filed by June 16, 2025. This monthly notice includes all amendments issued, or proposed to be issued, from February 28, 2025, to March 27, 2025. The last monthly notice was published on March 18, 2025.

ADDRESSES: You may submit comments by any of the following methods; however, the NRC encourages electronic comment submission through the Federal rulemaking website.

• Federal rulemaking website: Go to https://www.regulations.gov and search for Docket ID NRC-2025-0073. Address questions about Docket IDs in Regulations.gov to Bridget Curran; telephone: 301-415-1003; email: Bridget.Curran@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001; telephone: 301-415-1118; email: Karen.Zeleznock@nrc.gov.

SUPPLEMENTARY INFORMATION:

I. Obtaining Information and Submitting Comments

A. Obtaining Information

Please refer to Docket ID NRC-2025-0073, facility name, unit number(s), docket number(s), application date, and subject when contacting the NRC about the availability of information for this action. You may obtain publicly available information related to this action by any of the following methods:

• Federal Rulemaking Website: Go to https://www.regulations.gov and search for Docket ID NRC-2025-0073.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0073, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with § 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Braidwood Station, Units 1 and 2, Will County, IL; Byron Station, Unit Nos. 1 and 2, Ogle County, IL; Constellation Energy Generation, LLC; R.E. Ginna Nuclear Power Plant; Wayne County, New York
Docket Nos | 50-456, 50-457, 50-454, 50-455, 50-244.
Application date | February 27, 2025.
ADAMS Accession No | ML25058A246.
Location in Application of NSHC | Pages 4-6 of Attachment 1.
Brief Description of Amendments | The proposed amendments request adoption of Technical Specifications Task Force (TSTF) Traveler, TSTF-309, Revision 2, “Revise Pressurizer PORV [Pressurizer Power Operated Relief Valves] Actions to not require cycling of block valve when closed for isolation.”
Proposed Determination | NSHC.
Name of Attorney for Licensee, Mailing Address | Jason Zorn, Associate General Counsel, Constellation Energy Generation, LLC, 101 Constitution Ave. NW, Suite 400 East, Washington, DC 20001.
NRC Project Manager, Telephone Number | Scott Wall, 301-415-2855.
Constellation Energy Generation, LLC; Braidwood Station, Units 1 and 2; Will County, IL
Docket Nos | 50-456, 50-457.
Application date | December 20, 2024.
ADAMS Accession No | ML24355A058.
Location in Application of NSHC | Pages 21-24 of Attachment 1.
Brief Description of Amendments | The proposed amendments would revise Technical Specifications (TS) Surveillance Requirement 3.7.9.2 to support an Ultimate Heat Sink (UHS) TS temperature limit that would reflect the diurnal effect that weather conditions have upon the UHS.
Proposed Determination | NSHC.
Name of Attorney for Licensee, Mailing Address | Jason Zorn, Associate General Counsel, Constellation Energy Generation, LLC, 101 Constitution Ave. NW, Suite 400 East, Washington, DC 20001.
NRC Project Manager, Telephone Number | Scott Wall, 301-415-2855.
Constellation Energy Generation, LLC; Braidwood Station, Units 1 and 2; Will County, IL
Docket Nos | 50-456, 50-457.
Application date | March 27, 2025.
ADAMS Accession No | ML25086A079.
Location in Application of NSHC | Pages 16-18 of Attachment 1.
Brief Description of Amendments | The proposed amendments request to temporarily change Technical Specifications (TS) Surveillance Requirement 3.7.9.2 to allow an Ultimate Heat Sink temperature of ≤102.8 °F until September 30, 2025.
Proposed Determination | NSHC.
Name of Attorney for Licensee, Mailing Address | Jason Zorn, Associate General Counsel, Constellation Energy Generation, LLC, 101 Constitution Ave. NW, Suite 400 East, Washington, DC 20001.
NRC Project Manager, Telephone Number | Scott Wall, 301-415-2855.
Entergy Louisiana, LLC, and Entergy Operations, Inc.; River Bend Station, Unit 1; West Feliciana Parish, LA
Docket No | 50-458.
Application date | December 30, 2024.
ADAMS Accession No | ML24365A265.
Location in Application of NSHC | Pages 16-18 of Enclosure 1.
Brief Description of Amendment | The proposed amendment would modify the River Bend Station, Unit 1, licensing basis through a revision of the Updated Safety Analysis Report to credit makeup to the ultimate heat sink (UHS) in less than 30 days to account for system leakage and for operation with both standby service water subsystems in operation. Additionally, the proposed amendment would revise Technical Specification Surveillance Requirement 3.7.1.1 to increase the minimum UHS cooling tower basin water level in order to maximize UHS inventory.
Proposed Determination | NSHC.
Name of Attorney for Licensee, Mailing Address | Susan Raimo, Associate General Counsel—Nuclear, 101 Constitution Avenue NW, Washington, DC 20001.
NRC Project Manager, Telephone Number | Jason Drake, 301-415-8378.
Florida Power & Light Company; St. Lucie Plant, Unit No. 1; St. Lucie County, FL
Docket No | 50-335.
Application date | December 19, 2024.
ADAMS Accession No | ML24354A278.
Location in Application of NSHC | Pages 9-10 of Enclosure 1.
Brief Description of Amendment | The proposed license amendment would revise St. Lucie Nuclear Plant, Unit 1, Technical Specification (TS) 3.7.15, “Spent Fuel Pool Storage,” and TS 4.3, “Fuel Storage,” to support updated spent fuel pool and new fuel vault criticality analyses which account for a proposed transition to 24-month fuel cycles.
Proposed Determination | NSHC.
Name of Attorney for Licensee, Mailing Address | James Petro, Managing Attorney—Nuclear, Florida Power and Light Company 700 Universe Boulevard, MS LAW/JB, Juno Beach, FL 33408-0420.
NRC Project Manager, Telephone Number | Natreon Jordan, 301-415-7410.
Holtec Decommissioning International, LLC; Palisades Nuclear Plant; Van Buren County, MI
Docket No | 50-255.
Application date | February 5, 2025, as supplemented by letter dated February 27, 2025.
ADAMS Accession Nos | ML25035A216, ML25058A265.
Location in Application of NSHC | Pages 41-44 of the Enclosure.
Brief Description of Amendment | The proposed amendment would revise the Palisades Nuclear Plant licensing basis to include Leak-Before-Break methodology for Primary Coolant System hot and cold leg piping.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Justin Poole, 301-415-2048.
Nine Mile Point Nuclear Station, LLC and Constellation Energy Generation, LLC; Nine Mile Point Nuclear Station, Unit 2; Oswego County, NY
Docket No | 50-410.
Application date | January 29, 2025.
ADAMS Accession No | ML25029A181.
Location in Application of NSHC | Pages 2-3 of Enclosure 2.
Brief Description of Amendment | The proposed amendment would modify the Nine Mile Point Nuclear Station, Unit 2, technical specification requirements to reduce the Main Steam Isolation Valve (MSIV) test pressure value in Surveillance Requirement 3.6.1.3.12. In addition, the proposed amendment would adjust the maximum allowable leakage through each MSIV to account for the change in test pressure.
Proposed Determination | NSHC.
Name of Attorney for Licensee, Mailing Address | Jason Zorn, Associate General Counsel, Constellation Energy Generation, LLC, 101 Constitution Ave. NW, Suite 400 East, Washington, DC 20001.
NRC Project Manager, Telephone Number | Richard Guzman, 301-415-1030.
Southern Nuclear Operating Company, Inc.; Edwin I. Hatch Nuclear Plant, Units 1 and 2; Appling County, GA
Docket Nos | 50-321, 50-366.
Application date | February 6, 2025.
ADAMS Accession No | ML25037A316.
Location in Application of NSHC | Pages E-8 to E-10 of the Enclosure.
Brief Description of Amendments | The proposed amendments would revise the Edwin I. Hatch Nuclear Plant, Units 1 and 2, Technical Specification Surveillance Requirement (SR) for diesel generator (DG) loading required by SR 3.8.1.2 and SR 3.8.1.5. Specifically, the proposed changes would replace the current DG loading requirements with a loading requirement of 90% to 100% of the continuous rating for the DG.
Proposed Determination | NSHC.
Name of Attorney for Licensee, Mailing Address | Millicent Ronnlund, Vice President and General Counsel, Southern Nuclear Operating Co., Inc., P.O. Box 1295, Birmingham, AL 35201-1295.
NRC Project Manager, Telephone Number | Dawnmathews Kalathiveettil, 301-415-5905.
Southern Nuclear Operating Company, Inc.; Vogtle Electric Generating Plant, Units 3 and 4; Burke County, GA
Docket Nos | 52-025, 52-026.
Application date | February 27, 2025.
ADAMS Accession No | ML25058A477.
Location in Application of NSHC | Pages E-13 to E-15.
Brief Description of Amendments | The proposed amendments would remove completed combined license (COL) conditions, modify other COL conditions, and remove some unit-specific Technical Specification and COL language that is no longer applicable for Vogtle, Units 3 and 4.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Susquehanna Nuclear, LLC and Allegheny Electric Cooperative, Inc.; Susquehanna Steam Electric Station, Units 1 and 2; Luzerne County, PA
Docket Nos | 50-387, 50-388.
Application date | January 29, 2025.
ADAMS Accession No | ML25029A032.
Location in Application of NSHC | Pages 11-13 of Attachment 1.
Brief Description of Amendments | The proposed amendments would revise reactor vessel water level allowable values in various instrumentation technical specifications.
Proposed Determination | NSHC.
Name of Attorney for Licensee, Mailing Address | Jason Usher, 600 Hamilton Street, Suite 600, Allentown, PA 18101.
NRC Project Manager, Telephone Number | Audrey Klett, 301-415-0489.
Tennessee Valley Authority; Sequoyah Nuclear Plant, Unit 2; Hamilton County, TN
Docket No(s) | 50-328.
Application date | February 10, 2025.
ADAMS Accession No | ML25041A086.
Location in Application of NSHC | Pages E11 to E13 of the Enclosure.
Brief Description of Amendment(s) | The proposed amendment would revise Sequoyah Nuclear Plant, Unit 2, Technical Specification Surveillance Requirement 3.0.2, “Surveillance Requirement (SR) Applicability,” to extend, on a one-time basis, the surveillance interval for SR 3.6.12.2 (Ice Condenser—Ice Mass Weighing) and SR 3.6.12.3 (Ice Condenser Flow Passage Inspection) that are normally performed on an 18-month frequency in conjunction with a refueling outage.
Proposed Determination | NSHC.
Name of Attorney for Licensee, Mailing Address | David Fountain, Executive VP and General Counsel, Tennessee Valley Authority, 400 West Summit Hill Drive, WT 6A-K, Knoxville, TN 37902.
NRC Project Manager, Telephone Number | Kimberly Green, 301-415-1627.
Tennessee Valley Authority; Watts Bar Nuclear Plant, Units 1 and 2; Rhea County, TN
Docket Nos | 50-390, 50-391.
Application date | December 27, 2024.
ADAMS Accession No | ML24362A110.
Location in Application of NSHC | Pages A1-10 to A1-12 of Attachment 1.
Brief Description of Amendments | The proposed amendments would modify the Watts Bar Nuclear Plant technical specification (TS) requirements related to Completion Times (CTs) for certain Required Actions to provide the option to calculate a longer, risk-informed CT (RICT) consistent with Technical Specification Task Force (TSTF) Traveler TSTF-505-A, Revision 2, “Provide Risk-Informed Extended Completion Times—RITSTF Initiative 4b.” The proposed amendments would add a new program, the Risk Informed Completion Time Program, to TS Section 5, “Administrative Controls.” Additionally, the proposed amendments would eliminate all secondary CTs and revise CT Example 1.3-3 consistent with Traveler TSTF-439-A, Revision 2, “Eliminate Second Completion Times Limiting Time From Discovery of Failure To Meet an LCO [Limiting Condition for Operation].”
Proposed Determination | NSHC.
Name of Attorney for Licensee, Mailing Address | David Fountain, Executive VP and General Counsel, Tennessee Valley Authority, 400 West Summit Hill Drive, WT 6A-K, Knoxville, TN 37902.
NRC Project Manager, Telephone Number | Kimberly Green, 301-415-1627.
Vistra Operations Company LLC; Davis-Besse Nuclear Power Station, Unit 1; Ottawa County, OH
Docket No | 50-346.
Application date | February 26, 2025.
ADAMS Accession No | ML25058A170.
Location in Application of NSHC | Pages 3-4 of Attachment 1.
Brief Description of Amendment | The proposed license amendment would revise Technical Specification (TS) 3.8.3, “Diesel Fuel Oil, Lube Oil, and Starting Air,” by relocating the current stored diesel fuel oil and lube oil numerical volume requirements from the TS to the TS Bases so that it may be modified under licensee control. The TS would be modified so that the stored diesel fuel oil and lube oil inventory will require that a 7-day supply be available for each diesel generator. Condition A and Condition B in the Action table are revised and Surveillance Requirements 3.8.3.1 and 3.8.3.2 are revised to reflect the above change. In addition, the reference to Appendix B of ANSI N195-1976, “Fuel Oil Systems for Standby Diesel-Generators,” in the TS Bases is deleted. The proposed amendment would also revise TS 3.8.1, “AC Sources—Operating,” to remove the specific numerical value for the fuel oil volume and replace it with the time requirement of greater than or equal to a 20-hour supply of fuel oil in each day tank.
Proposed Determination | NSHC.
Name of Attorney for Licensee, Mailing Address | Roland Backhaus, Senior Lead Counsel-Nuclear, Vistra Corp., 325 7th Street NW, Suite 520, Washington, DC 20004.
NRC Project Manager, Telephone Number | Robert Kuntz, 301-415-3733.
Wolf Creek Nuclear Operating Corporation; Wolf Creek Generating Station, Unit 1; Coffey County, KS
Docket No | 50-482.
Application date | January 30, 2025.
ADAMS Accession No | ML25030A384.
Location in Application of NSHC | Pages 25-27 of Enclosure I.
Brief Description of Amendment | The proposed amendment would adopt 10 CFR 50.69, “Risk-Informed Categorization and Treatment of Structures, Systems and Components for Nuclear Power Reactors.”
Proposed Determination | NSHC.
Name of Attorney for Licensee, Mailing Address | Chris Johnson, Corporate Counsel Director, Evergy, One Kansas City Place, 1KC-Missouri HQ 16, 1200 Main Street, Kansas City, MO 64105.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the

Federal Register citation for any environmental assessment. All of these items can be accessed as described in the “Obtaining Information and Submitting Comments” section of this document.

License Amendment Issuances
Constellation Energy Generation, LLC; Braidwood Station, Units 1 and 2, Will County, IL; Byron Station, Unit Nos. 1 and 2, Ogle County, IL
Docket Nos | 50-454, 50-455, 50-456, 50-457.
Amendment Date | March 19, 2025.
ADAMS Accession No | ML24352A075.
Amendment Nos | 239 (Braidwood, Unit 1), 239 (Braidwood, Unit 2); 238 (Byron, Unit 1), 238 (Byron, Unit 2).
Brief Description of Amendments | The amendments removed extraneous detail related to the Best Estimate Analyzer for Core Operations—Nuclear (BEACON™) software and more closely aligned Braidwood and Byron Technical Specifications with the Standard Technical Specifications for Westinghouse plants, NUREG-1431, Revision 5.
Public Comments Received as to Proposed NSHC (Yes/No) | No.
Constellation Energy Generation, LLC; Braidwood Station, Units 1 and 2, Will County, IL; Byron Station, Unit Nos. 1 and 2, Ogle County, IL
Docket Nos | 50-454, 50-455, 50-456, 50-457.
Amendment Date | March 7, 2025.
ADAMS Accession No | ML25023A278.
Amendment Nos | 237 (Braidwood, Unit 1), 237 (Braidwood, Unit 2); 236 (Byron, Unit 1), 236 (Byron, Unit 2).
Brief Description of Amendments | The amendments revised the Byron and Braidwood Technical Specifications (TSs) (1) TS 3.7.15 to increase the required spent fuel pool boron concentration to be greater than or equal to 2000 parts per million; (2) TS 3.7.16 to update Figure 3.7.16-1 to include fuel from Framatome and Westinghouse; (3) TS 3.7.16.a. and b. are revised to remove “Holtec” from the first line, and SR 3.7.16.2 is revised to remove “decay time” (Braidwood only); (4) TS 4.3.1.b to update the description and references; and (5) TS 4.3.1.c and d to update the description and references (Braidwood only).
Public Comments Received as to Proposed NSHC (Yes/No) | No.
Constellation Energy Generation, LLC; Braidwood Station, Units 1 and 2, Will County, IL; Byron Station, Unit Nos. 1 and 2, Ogle County, IL
Docket Nos | 50-456, 50-457, 50-454, 50-455.
Amendment Date | March 18, 2025.
ADAMS Accession No | ML25030A158.
Amendment Nos | 238 (Braidwood, Unit 1), 238 (Braidwood, Unit 2); 237 (Byron, Unit 1), 237 (Byron, Unit 2).
Brief Description of Amendments | The amendments eliminated the specific moderator temperature coefficient (MTC) limit for anticipated transients without scram (ATWS) from the Braidwood Station, Units 1 and 2, and Byron Station, Unit Nos. 1 and 2, technical specifications (TSs). This was done by removing the ATWS specific MTC limit from the core operating limits report and the analytical method specified in TS 5.6.5.b.5 from those to be used to determine the core operating limits.
Public Comments Received as to Proposed NSHC (Yes/No) | No.
Duke Energy Carolinas, LLC; Catawba Nuclear Station, Units 1 and 2; York County, SC
Docket Nos | 50-413, 50-414.
Amendment Date | March 14, 2025.
ADAMS Accession No | ML25041A271.
Amendment Nos | 320 (Unit 1), 316 (Unit 2).
Brief Description of Amendments | The amendments revised Catawba's Units 1 and 2 Technical Specification (TS) 3.4.3, “RCS Pressure and Temperature (P/T) Limits” to reflect an update to the P/T limit curves in Figures 3.4.3-1 (Unit 2 only) and 3.4.3-2 (Unit 2 only). The amendments also reflect that the revised Catawba Unit 2 P/T limit curves in TS 3.4.3 are applicable until 54 effective full power years.
Public Comments Received as to Proposed NSHC (Yes/No) | No.
Energy Northwest; Columbia Generating Station; Benton County, WA
Docket No | 50-397.
Amendment Date | March 13, 2025.
ADAMS Accession No | ML24324A288.
Amendment No | 276.
Brief Description of Amendment | The amendment approved the revision of the Columbia Generating Station (Columbia) Emergency Plan. The licensee revised the Columbia Emergency Plan utilizing the guidance in NUREG 0654/FEMA REP-1, Revision 2, “Criteria for Preparation and Evaluation of Radiological Emergency Response Plans and Preparedness in Support of Nuclear Power Plants,” dated December 2019. The revised plan established an updated licensing basis for Columbia.
Public Comments Received as to Proposed NSHC (Yes/No) | No.
Entergy Operations, Inc.; Waterford Steam Electric Station, Unit 3; St. Charles Parish, LA
Docket No | 50-382.
Amendment Date | February 28, 2025.
ADAMS Accession No | ML25042A104.
Amendment No | 273.
Brief Description of Amendment | The amendment revised the frequencies associated with specific Waterford Steam Electric Station, Unit 3 (Waterford 3) technical specification surveillances. Four surveillance frequencies are to be performed in accordance with the Surveillance Frequency Control Program. These changes were originally intended to have been addressed in the Waterford 3 license amendment request to adopt Technical Specifications Task Force (TSTF) Traveler TSTF-425, “Relocate Surveillance Frequencies to Licensee Control—RITSTF [Risk-Informed TSTF] Initiative 5b” (ML16159A419).
Public Comments Received as to Proposed NSHC (Yes/No) | No.
Florida Power & Light Company; Turkey Point Nuclear Generating Unit No. 4; Miami-Dade County, FL
Docket No | 50-251.
Amendment Date | March 24, 2025.
ADAMS Accession No | ML25050A204.
Amendment No | 295.
Brief Description of Amendment | The amendment extended the implementation date specified in Amendment 291 from refueling outage (RFO) 4R35 (spring 2025) to RFO 4R36 (spring 2027).
Public Comments Received as to Proposed NSHC (Yes/No) | No.
Southern Nuclear Operating Company, Inc.; Edwin I. Hatch Nuclear Plant, Units 1 and 2; Appling County, GA
Docket Nos | 50-321, 50-366.
Amendment Date | January 28, 2025.
ADAMS Accession No | ML24365A040.
Amendment Nos | 326 (Unit 1), 271 (Unit 2).
Brief Description of Amendments | The amendments adopted Technical Specification Task Force (TSTF) Traveler TSTF-591, “Revise Risk Informed Completion Time (RICT) Program,” into the Hatch Units 1 and 2 Technical Specifications (TSs). TSTF-591 revised the TSs Section 5.5.16 Program, “Risk Informed Completion Time Program,” to reference Regulatory Guide 1.200, Revision 3, instead of Revision 2, and made other changes. The amendments added a new report to TSs Section 5.6.8, “Reporting Requirements,” to inform the NRC of newly developed methods used to calculate a RICT.
Public Comments Received as to Proposed NSHC (Yes/No) | No.
Southern Nuclear Operating Company, Inc.; Edwin I. Hatch Nuclear Plant, Units 1 and 2; Appling County, GA
Docket Nos | 50-321, 50-366.
Amendment Date | February 25, 2025.
ADAMS Accession No | ML24348A228.
Amendment Nos | 327 (Unit 1), 272 (Unit 2).
Brief Description of Amendments | The amendments revised the licensing basis to implement a change to the approved voluntary implementation of the provisions of 10 CFR 50.69, “Risk-informed categorization and treatment of structures, systems and components for nuclear power reactors.” Specifically, the amendments revised the respective license conditions to incorporate the use of an alternative seismic method into the previously approved 10 CFR 50.69 categorization process, in addition to the plant-specific Edwin I. Hatch Nuclear Plant seismic probabilistic risk assessment.
Public Comments Received as to Proposed NSHC (Yes/No) | No.
Southern Nuclear Operating Company, Inc.; Edwin I. Hatch Nuclear Plant, Units 1 and 2; Appling County, GA
Docket Nos | 50-321, 50-366.
Amendment Date | December 20, 2024.
ADAMS Accession No | ML24312A367.
Amendment No(s) | 324 (Unit 1), 269 (Unit 2).
Brief Description of Amendments | The amendments modified the Edwin I. Hatch Nuclear Plant, Units 1 and 2, Technical Specification (TS) requirements related to Completion Times (CTs) for Required Actions to provide the option to calculate a longer, risk-informed CT for the condition of one pump inoperable for TS 3.7.1, “Residual Heat Removal Service Water (RHRSW) System,” and for TS 3.7.2, “Plant Service Water (PSW) System and Ultimate Heat Sink (UHS).” The amendments also made corresponding changes to TS 5.5.16, “Risk Informed Completion Time Program,” and to TS 1.3, “Completion Times,” Example 1.3-8.
Public Comments Received as to Proposed NSHC (Yes/No) | No.
Southern Nuclear Operating Company, Inc.; Joseph M. Farley Nuclear Plant, Units 1 and 2; Houston County, AL
Docket Nos | 50-364, 50-348.
Amendment Date | March 6, 2025.
ADAMS Accession No | ML25017A333.
Amendment Nos | 253 (Unit 1), 250 (Unit 2).
Brief Description of Amendments | The amendments revised the Technical Specifications 3.6.6, “Containment Spray and Cooling Systems,” and Surveillance Requirement 3.6.6.8 to change the frequency at which each containment spray system spray nozzle must be verified unobstructed.
Public Comments Received as to Proposed NSHC (Yes/No) | No.
Tennessee Valley Authority; Sequoyah Nuclear Plant, Units 1 and 2; Hamilton County, TN
Docket Nos | 50-327, 50-328.
Amendment Date | March 6, 2025.
ADAMS Accession No | ML25027A314.
Amendment Nos | 370 (Unit 1), 364 (Unit 2).
Brief Description of Amendments | The amendments revised Technical Specification Surveillance Requirement 3.4.14.1, “Reactor Coolant System (RCS) Pressure Isolation Valve (PIV) Leakage,” to only reference the Inservice Testing Program for the Frequency.
Public Comments Received as to Proposed NSHC (Yes/No) | No.
U.S. Dept. of Transportation, Maritime Administration, Nuclear Ship Savannah, Baltimore, MD
Docket No | 50-238.
Amendment Date | January 30, 2025.
ADAMS Accession No | ML24334A022 (Package).
Amendment No | 19.
Brief Description of Amendment(s) | The amendment approved the License Termination Plan (LTP) for the decommissioning for the Nuclear Ship Savannah and added License Conditions 2.C.(4) to include LTP requirements and establish criteria for determining when changes to the LTP require prior NRC approval.
Public Comments Received as to Proposed NSHC (Yes/No) | No.
Virginia Electric and Power Company; Surry Power Station, Unit Nos. 1 and 2; Surry County, VA
Docket Nos | 50-280, 50-281.
Amendment Date | February 20, 2025.
ADAMS Accession No | ML25016A346.
Amendment Nos | 320 (Unit 1), 320 (Unit 2).
Brief Description of Amendments | The amendments revised the Surry Power Station, Unit Nos. 1 and 2, Technical Specification (TS) 3.8, “Containment,” to: (1) change the TS 3.8.D. title from “Internal Pressure” to “Containment Pressure,” (2) add a minimum containment air partial pressure limit to the Limiting Condition for Operation (LCO) in TS 3.8.D., and (3) add a new TS 3.8.e., “Containment Air Temperature,” to provide an LCO for containment average air temperature. The amendments also revised TS 4.1, “Operational Safety Review,” to incorporate a TS Surveillance Requirements for containment air partial pressure and containment average air temperature.
Public Comments Received as to Proposed NSHC (Yes/No) | No.
Vistra Operations Company LLC; Beaver Valley Power Station, Units 1 and 2; Beaver County, PA
Docket Nos | 50-334, 50-412.
Amendment Date | March 19, 2025.
ADAMS Accession No | ML25016A326.
Amendment Nos | 324 (Unit 1), 214 (Unit 2).
Brief Description of Amendments | The amendments revised the respective technical specifications (TSs) to adopt Technical Specification Task Force Traveler-569, “Revise Response Time Testing Definition,” to revise the TS definitions for the engineered safety feature response time and reactor trip system response time.
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendments. The Commission has determined for these amendments that the applications for the amendments comply with the standards and requirements of the Atomic Energy Act of 1954, as amended (the Act), and the Commission's rules and regulations. The Commission has made appropriate findings as required by the Act and the Commission's rules and regulations in 10 CFR chapter I, which are set forth in the license amendments.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level (an emergency situation), the Commission may not have had an opportunity to provide for public comment on its NSHC determination. In such case, the license amendment has been issued without opportunity for comment prior to issuance. Nonetheless, the State has been consulted by telephone whenever possible.

Under its regulations, the Commission may issue and make an amendment immediately effective, notwithstanding the pendency before it of a request for a hearing from any person, in advance of the holding and completion of any required hearing, where it has determined that NSHC is involved. The Commission has applied the standards of 10 CFR 50.92 and has made a final determination that the amendments involve NSHC. The basis for this determination is contained in the NRC staff safety evaluation related to each action. Accordingly, the amendment has been issued and made effective as indicated.

For those amendments that involve an emergency situation, the Commission is now providing an opportunity to comment on the final NSHC determination for each action; comments should be submitted in accordance with Section I of this notice within 30 days of the date of this notice. Any comments received within 30 days of the date of publication this notice will be considered.

For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance(s)—Exigent/Emergency Circumstances
Constellation Energy Generation, LLC; Calvert Cliffs Nuclear Power Plant, Unit 1; Calvert County, MD
Docket No | 50-317.
Amendment Date | March 18, 2025.
ADAMS Accession No | ML25077A182.
Amendment No | 352.
Brief Description of Amendment | The amendment is an emergency, one-time extension of Technical Specification 3.7.8 Control Room Emergency Ventilation System (CREVS),” Action C.1 Completion Time, from 7 days to 17 days, for one train of the CREVS that is inoperable because of the emergency power supply for the train being inoperable.
Local Media Notice (Yes/No) | No.
Public Comments Requested as to Proposed NSHC (Yes/No) | No.
Northern States Power Company; Monticello Nuclear Generating Plant, Unit 1; Wright County, MN
Docket No | 50-263.
Amendment Date | March 7, 2025.
ADAMS Accession No | ML25050A573.
Amendment No | 214.
Brief Description of Amendment | The amendment consists of changes to the Emergency Action Level (EAL) scheme used with the Xcel Energy Standard Emergency Plan at the Monticello Nuclear Generating Plant, Unit 1. Specifically, the amendment permanently revises EAL HU3.6 to include a duration of 60 minutes or longer for river level less than 902.4 feet elevation.
Local Media Notice (Yes/No) | No.
Public Comments Requested as to Proposed NSHC (Yes/No) | No.

V. Previously Published Notice of Consideration of Issuance of Amendments to Facility Operating Licenses and Combined Licenses, Proposed No Significant Hazards Consideration Determination, and Opportunity for a Hearing

The following notice was previously published as a separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request—Repeat of Individual Federal Register Notice
Union Electric Company; Callaway Plant, Unit No. 1; Callaway County, MO
Docket No | 50-483.
Application Date | January 29, 2025.
ADAMS Accession No | ML25029A188 (Package).
Brief Description of Amendment | The proposed amendment would allow the H-08 Control Rod to be removed for Cycle 28. Specifically, the proposed change would add a note to Technical Specification 4.2.2, “Control Rod Assemblies,” to permit the Cycle 28 Core to contain 52 Control Rods (i.e., with no Control Rod in Core location H-08), in lieu of the current requirement for 53 Control Rods.
Date & Cite of Federal Register Individual Notice | February 27, 2025; 90 FR 10832.
Expiration Dates for Public Comments & Hearing Requests | March 31, 2025 (Comments); April 28, 2025 (Hearing Requests).

Dated: April 9, 2025.
For the Nuclear Regulatory Commission.
Jamie Pelton,
Acting Director, Division of Operating Reactor Licensing, Office of Nuclear Reactor Regulation.

[FR Doc. 2025-06300 Filed 4-14-25; 8:45 am]

BILLING CODE 7590-01-P